ENVIRONMENTAL PROTECTION AGENCY

[ER-FRL-6619-8]

Environmental Impact Statements; Notice of Availability

Responsible Agency

Office of Federal Activities, General Information (202) 564-7167 www.epa.gov/oeca/ofa

Weekly receipt of Environmental Impact Statements

Filed July 02, 2001 Through July 06, 2001

Pursuant to 40 CFR 1506.9.

EIS No. 010241, Draft EIS, FHW, RI, Sakonnet River Bridge Rehabilitation or Replacement Project, Portsmouth & Tiverton, Newport County, RI, Due: September 07, 2001, Contact: Daniel J. Berman (401) 528-4541.

EIS No. 010242, Draft EIS, FHW, CA, CA-78/111 Brawley Bypass, Construction of an Expressway from CA-86 to CA-11, City of Brawley, Funding, Imperial County, CA, Due: August 27, 2001, Contact: Jeffrey W. Kolb (916) 498-5037.

EIS No. 010243, Final EIS, FHW, IL, Illinois Route 3 (FAP-14) Relocation, Improved Transportation from Sauget to Venice, Funding, NPDES Permit and COE Section 404 Permit, Madison and St. Clair Counties, IL, Due: August 13, 2001, Contact: Daniel M. Mathis (217) 492-4640.

EIS No. 010244, Final EIS, FHW, NY, NY-120/22, Reconstruction Corridor, from Exits 2 and 3 on I-684 and Old Post Road (PIN-8130.75), Funding, COE Section 10 and 404 Permits, Town of North Castle, Westchester County, NY, Due: August 13, 2000, Contact: H.J. Brown (518) 472-3616.

EIS No. 010245, Final EIS, NRS, WV, Upper Tygart Valley River Watershed Plan, Water Supply Project, Approval and Funding, Randolph and Pocahontas Counties, WV, Due: August 13, 2001, Contact: William J. Hartman (304) 284-7545.

EIS No. 010246, Draft Supplement, BLM, ID, Smoky Canyon Mine Panels B and C, Propose to Mine Phosphate Ore Reserves in the Final Two Mine Panels, National Forest System Lands and Federal Mineral Leases, Caribou National Forest, Permit, Caribou County, ID, Due: September 11, 2001, Contact: Jeffery Cundick (208) 478-6354. The U.S. Department of Interior's Bureau of Land Management and U.S. Department of Agriculture, Forest Service are Joint Lead Agencies for this project.

EIS No. 010247, Final EIS, MMS, LA, AL, MS, FL, Eastern Planning Area Outer Continental Shelf Oil and Gas Lease Sale 181 (December 2001), Gulf of Mexico, Offshore Marine Environment and Coastal Counties/Parishes of LA, MI, AL and northwestern FL, Due: August 13, 2001, Contact: Archie Melancon (703) 787-1547.

EIS No. 010248, Draft EIS, USN, HI, Programmatic EIS—Ford Island Development Program, Proposed Consolidation of Selected Operation at Pearl Harbor by Locating and Relocating Certain Activities Ford Island, HI, Due: August 27, 2001, Contact: Stanley Uehara (808) 471-9338.

EIS No. 010249, Draft EIS, COE, CA, Pine Flat Dam Fish and Wildlife Habitat Restoration Investigation, Propose to Restore and Protect the Ecosystem for Fish and Wildlife Resource, King River Basin, Fresno County, CA, Due: August 27, 2001, Contact: David Tedrick (916) 557-7087.

EIS No. 010250, Draft EIS, FRC, MA, CT, Phase III/Hubline Project, Construction and Operation a Natural Gas Pipeline, Maritimes and Northeast Pipeline (Docket No. CPO1-4-000), Algonquin Gas Transmission (Docket No. CP01-5-000) and Texas Eastern Transmission (Docket No. CP01-8-000), MA and CT, Due: September 03, 2001, Contact: Berne Mosley (202) 208-0004.

EIS No. 010251, Final EIS, FTA, CA, Mid-Coast Corridor Mass Transit Improvement Project, Funding, San Diego County, CA , Due: August 13, 2001, Contact: Tim Pennington (415) 744-3116.

Dated: July 10, 2001.
B. Katherine Biggs,
Associate Director, NEPA Compliance Division, Office of Federal Activities.

[FR Doc. 01-17627 Filed 7-12-01; 8:45 am]

BILLING CODE 6560-50-P